DEPARTMENT OF AGRICULTURE

Office of the Secretary

7 CFR Part 9

[Docket ID: FSA-2020-0004]

Notice of Funding Availability; Coronavirus Food Assistance Program (CFAP) Additional Commodities Request for Information

AGENCY: Office of the Secretary, USDA.

ACTION: Notice of funding availability; request for comments.

SUMMARY: The Coronavirus Food Assistance Program (CFAP) helps agricultural producers impacted by the effects of the COVID-19 outbreak. As provided in the CFAP regulation, this document requests input to help USDA identify information about additional commodities that are not already identified with payment rates in the CFAP regulation for inclusion in CFAP.

DATES: We will consider comments that we receive on additional commodities by June 22, 2020.

We will consider comments that we receive on the Paperwork Reduction Act by July 21, 2020.

FOR FURTHER INFORMATION CONTACT: William L. Beam, telephone (202) 720-3175; email Bill.Beam@usda.gov. Persons with disabilities or who require alternative means for communication (Braille, large print, audio tape, etc.) should contact the USDA Target Center at (202) 720-2600 (voice and TDD).

ADDRESSES: We invite you to submit comments to provide information about additional commodities and comment on the information collection specified in this document. In your comment, specify [Docket ID: FSA-2020-0004], and include the volume, date, and page number of this issue of the Federal Register. You may submit comments by either of the following methods:

• Federal Rulemaking Portal: Go to http://www.regulations.gov and search for Docket ID FSA-2020-0004. Follow the instructions for submitting comments.

• Mail: Director, SND, FSA, U.S. Department of Agriculture, 1400 Independence Avenue SW, Stop 0522, Washington, DC 20250-0522.

Comments will be available for viewing online at http://www.regulations.gov. In addition, comments will be available for public inspection at the above address during business hours from 8 a.m. to 5 p.m., Monday through Friday, except holidays.

SUPPLEMENTARY INFORMATION: The Coronavirus Aid, Relief, and Economic Security Act (CARES Act; Pub. L. 116-136) provides $9,500,000,000 to the Secretary of Agriculture to provide assistance to agricultural producers impacted by the effects of the COVID-19 outbreak. In accordance with 15 U.S.C. 714b, the Secretary of Agriculture is also using funds of the Commodity Credit Corporation (CCC) to assist producers with the purchase of materials and facilities required in connection with the production and marketing of agricultural commodities, and the removal of surplus commodities from normal marketing channels that may be currently unavailable. At this time, the amount of CCC funds available for these purposes is limited to $6.5 billion. USDA implemented CFAP for certain commodities in the regulation in 7 CFR part 9.

For the purpose of potentially supplementing the commodities listed in the CFAP regulation, this document requests information on agricultural commodities not already included in CFAP, which may be negatively impacted by the COVID-19 pandemic, and for which sufficient information is not currently available to USDA to include them in CFAP. If sufficient information is received and a decision is made to add commodities to the program, USDA will issue another NOFA listing the additional commodities, the respective payment rates, application dates, and any other unique information that producers will need to know for those commodities and the availability of CFAP payments.

CFAP Background

Generally, in order to be eligible for a CFAP payment, a producer must have suffered a 5-percent-or-greater price loss over a specified time resulting from the COVID-19 outbreak or face additional significant marketing costs for inventories—whether caused by lower prices given significant declines in certain types of demand, surplus production, or by disruptions to shipping patterns and the orderly marketing of commodities. In addition, due to the COVID-19 outbreak, many farmers markets, restaurants, and schools have temporarily or permanently closed, thus causing significantly decreased demand for commodities grown by producers that are ordinarily supplied to these places.

The following commodities are included in CFAP as specified in the CFAP regulation in 7 CFR part 9.

Non-specialty crops | Specialty crops | Livestock | Other
Barley (malting) | Almonds | Slaughter cattle—mature cattle | Dairy.
Canola | Apples | Slaughter cattle—fed cattle | Wool.
Corn | Artichokes | Feeder cattle less than 600 pounds. |
Durum wheat | Asparagus | Feeder cattle 600 pounds or more. |
Hard red spring wheat | Avocados | All other cattle. |
Millet | Beans | Pigs. |
Oats | Blueberries | Hogs. |
Sorghum | Broccoli | Lambs and yearlings. |
Soybeans | Cabbage. |  |
Sunflowers | Cantaloupe. |  |
Upland cotton | Carrots. |  |
| Cauliflower. |  |
| Celery. |  |
| Corn, sweet. |  |
| Cucumbers. |  |
| Eggplant. |  |
| Garlic. |  |
| Grapefruit. |  |
| Kiwifruit. |  |
| Lemons. |  |
| Lettuce, iceberg. |  |
| Lettuce, romaine. |  |
| Mushrooms. |  |
| Onions, dry. |  |
| Onions green. |  |
| Oranges. |  |
| Papaya. |  |
| Peaches. |  |
| Pears. |  |
| Pecans. |  |
| Peppers, bell type. |  |
| Peppers, other. |  |
| Potatoes. |  |
| Raspberries. |  |
| Rhubarb. |  |
| Spinach. |  |
| Squash. |  |
| Strawberries. |  |
| Sweet potatoes. |  |
| Tangerines. |  |
| Taro. |  |
| Tomatoes. |  |
| Walnuts. |  |
| Watermelons. |  |

Agricultural commodities that are not listed in the table above and have widely published price data, such as those whose prices are collected by USDA and commodities traded on the futures markets, have been determined as having a minimal price impact due to COVID-19 and are not included in CFAP.

Information regarding producer eligibility, the application process, and calculation of payments is specified in the regulation in 7 CFR part 9. Agricultural commodities included in the regulation were determined by USDA to have incurred a price decline of at least 5 percent between the weeks of January 13-17, 2020, and April 6-9, 2020, for non-specialty crops, and April 6-10, 2020, for all other agricultural commodities.

Potential Additional Commodities for CFAP

One purpose of this document is to request information from the public to assist USDA in determining whether additional agricultural commodities not listed above should be eligible for CFAP. It is not to collect information on commodities already included in CFAP, commodities already excluded from CFAP, or information on non-agricultural products.

USDA requests information about agricultural commodities that the public believes to have suffered a 5-percent-or-greater price loss between the weeks of January 13-17, 2020, and April 6-10, 2020, for specialty crops, and April 6-10, 2020, for all other agricultural commodities. In providing input, please consider the following questions; these questions are not intended to limit the type or amount of information provided. The most helpful and informative information for consideration by USDA is information that describes how the decline in price was determined and documentation of the sources used to make this determination.

(1) What commodities not listed above have suffered a 5-percent-or-greater price loss between January and April 2020 and face additional marketing costs due to COVID-19?

(2) What was the price received per unit of measure sold the week of January 13 through January 17, 2020, (or if not available, the nearest to this date) and what is the basis for the determination of this price?

(3) What was the price received per unit of measure sold the week of April 6 through April 10, 2020, (or if not available, the nearest date to this) and what is the basis for the determination of this price?

USDA is particularly interested in the obtaining information with respect to the following specific categories of agricultural commodities.

Nursery Products

If you are providing information for a nursery that produces multiple products, such as trees, shrubs, or perennial plants, please specify your responses to the questions below separately by product:

(1) For live trees, shrubs, or other plants that you produced, had vested ownership in, and had in inventory at some point between January 15, 2020, and April 15, 2020, what was:

(a) The average price you received per plant specified by type of nursery product sold (for example, roses, boxwoods, junipers) you sold the week of January 13 through January 17, 2020, (or if not available, nearest date to this);

(b) The average price you received per plant you sold the week of April 6 through April 10, 2020, (or if not available, nearest date to this);

(c) The number of plants you sold between January 15, 2020, and April 15, 2020.

(2) The number and the contracted price of plants you produced that left your nursery by April 15, 2020, and subsequently died or withered due to no market, and for which you did not have Federal crop insurance or obtain Noninsured Crop Disaster Assistance Program (NAP) to cover the loss.

(3) The inventory of plants ready for sale that did not leave the nursery by April 15, 2020, and that will not be sold due to lack of markets.

Aquaculture Products

The CFAP regulation provided that certain aquaculture producers would be eligible for participation in CFAP. The determination of eligible producers was made based upon consultation with the Department of Commerce, as that agency is also establishing a program to assist certain aquaculture producers. For CFAP, an eligible aquaculture producer is one who has a privately-owned aquaculture business that propagates freshwater and saltwater products in controlled environments (including raceways, ponds, tanks, and recirculating systems). Farmed shrimp and salmonids (trout and salmon) will be included in CFAP to the extent USDA determines individual types of these products have incurred a requisite decline in price.

Accordingly, through this document, USDA requests information from aquaculture producers to make the determination of a price decline. If the farm produces multiple aquaculture products, please specify your responses to the questions below separately by product.

(1) For live aquaculture that you produced, had vested ownership in, and had in inventory at some point between January 15, 2020, and April 15, 2020, what was:

(a) The average price you received per product the week of January 13 through January 17, 2020, (or if not available, nearest date to this);

(b) The average price you received per aquaculture product you sold the week of April 6 through April 10, 2020, (or if not available, nearest date to this);

(c) The number of aquaculture products you sold between January 15, 2020, and April 15, 2020.

(2) The number and the contracted price of aquaculture products you produced that left your farm by April 15, 2020, and subsequently spoiled due to no market, and for which you did not have Federal crop insurance or obtained NAP to cover the loss.

(3) The inventory of aquaculture products as April 15, 2020, that will not be sold due to lack of markets.

Paperwork Reduction Act Requirements

In accordance with the Paperwork Reduction Act of 1995 (44 U.S.C. Chapter 35), FSA is requesting comments from interested individuals and organizations on the information collection activities related to CFAP. FSA received emergency approval from OMB for 6 months, and FSA will request 3-years approval for CFAP information collection activities.

Title: Coronavirus Food Assistance Program (CFAP).

OMB Control Number: 0560-0295.

Type of Request: New Collection.

Abstract: This information collection is required to support all CFAP information collection activities (applicable NOFAs and the regulation in 7 CFR part 9) to provide payments to eligible producers who, with respect to their agricultural commodities, have been impacted by the effects of the COVID-19 outbreak. The information collection is necessary to evaluate the application and other required paperwork for determining the producer's eligibility and assist in the producer's payment calculations. FSA will start accepting CFAP applications later this month. If a producer who applies must submit additional documentation for eligibility, such as certifications of compliance with adjusted gross income provisions and conservation compliance activities, those additional documents and forms must be submitted no later than 60 days from the date the producer signs the application.

For the following estimated total annual burden on respondents, the formula used to calculate the total burden hour is the estimated average time per response multiplied by the estimated total annual responses.

Type of Respondents: Producers or farmers.

Estimated Annual Number of Respondents: 1,630,000.

Estimated Number of Responses per Respondent: 2.6822.

Estimated Total Annual Responses: 4,372,000.

Estimated Average Time per Response: 0.79309 hours.

Estimated Total Annual Burden on Respondents: 3,467,400 hours.

FSA is requesting comments on all aspects of this information collection to help us to:

(1) Evaluate whether the collection of information is necessary for the proper performance of the functions of FSA, including whether the information will have practical utility;

(2) Evaluate the accuracy of FSA's estimate of burden, including the validity of the methodology and assumptions used;

(3) Enhance the quality, utility and clarity of the information to be collected; and

(4) Minimize the burden of the collection of information on respondents, including through the use of appropriate automated, electronic, mechanical, or other technological collection techniques or other forms of information technology.

All comments received in response to this document, including names and addresses when provided, will be a matter of public record. Comments will be summarized and included in the submission for Office of Management and Budget approval.

Environmental Review

The environmental impacts of CFAP have been considered in a manner consistent with the provisions of the National Environmental Policy Act (NEPA), the regulations of the Council on Environmental Quality (40 CFR parts 1500-1508), and, because USDA will be making the payments to producers, the USDA regulations for compliance with NEPA (7 CFR part 1b).

Although OMB has designated the CFAP rule as “economically significant” under Executive Order 12866, “. . . economic or social effects are not intended by themselves to require preparation of an environmental impact statement” when not interrelated to natural or physical environmental effects (see 40 CFR 1508.14). CFAP was designed to avoid skewing planting decisions. Producers continue to make their planting and production decisions with market signals in mind, rather than any expectation of what a new USDA program might look like. The discretionary aspects of CFAP (for example, determining Adjusted Gross Income and payment limitations) were designed to be consistent with established USDA and CCC programs and are not expected to have any impact on the human environment, as CFAP payments will only be made after the commodity has been produced. Accordingly, the following Categorical Exclusion in 7 CFR part 1b applies: 1b.3(2), which applies to activities that deal solely with the funding of programs, such as program budget proposals, disbursements, and the transfer or reprogramming of funds. As such, the implementation of and participation in CFAP do not constitute major Federal actions that would significantly affect the quality of the human environment, individually or cumulatively. Therefore, an environmental assessment or environmental impact statement for CFAP will not be prepared; this document serves as documentation of the programmatic environmental compliance decision for this federal action.

Federal Assistance Programs

The title and number of the Federal assistance programs, as found in the Catalog of Federal Domestic Assistance, to which this NOFA applies is CFAP and 10.130.

Stephen L. Censky,
Vice Chairman, Commodity Credit Corporation, and Deputy Secretary, U.S. Department of Agriculture.

[FR Doc. 2020-11155 Filed 5-20-20; 4:15 pm]

BILLING CODE 3410-05-P